FEDERAL MINE SAFETY AND HEALTH REVIEW COMMISSION

Sunshine Act Meeting Notice

February 7, 2012.

TIME AND DATE: 10 a.m., Thursday, February 16, 2012.

PLACE: The Richard V. Backley Hearing Room, 9th Floor, 601 New Jersey Avenue NW., Washington, DC.

STATUS: Open.

MATTERS TO BE CONSIDERED: The Commission will consider and act upon the following in open session: Secretary of Labor v. Mach Mining, LLC, Docket Nos. LAKE 2010-1-R, et al.; and Secretary of Labor v. Mach Mining, LLC, Docket Nos. LAKE 2010-190, et al. (Issues include whether the Secretary's termination of an order issued for mining without an approved ventilation plan constituted approval of the operator's proposed ventilation plan.)

Any person attending this meeting who requires special accessibility features and/or auxiliary aids, such as sign language interpreters, must inform the Commission in advance of those needs. Subject to 29 CFR 2706.150(a)(3) and § 2706.160(d).

CONTACT PERSON FOR MORE INFO: Jean Ellen (202) 434-9950/(202) 708-9300 for TDD Relay/1-800-877-8339 for toll free.

Emogene Johnson,
Administrative Assistant.

[FR Doc. 2012-3227 Filed 2-8-12; 11:15 am]

BILLING CODE 6735-01-P